DEPARTMENT OF THE INTERIOR

National Park Service

[NPS-WASO-NAGPRA-NPS0039808; PPWOCRADN0-PCU00RP14.R50000]

Notice of Inventory Completion: University of Miami, Coral Gables, FL

AGENCY: National Park Service, Interior.

ACTION: Notice.

SUMMARY: In accordance with the Native American Graves Protection and Repatriation Act (NAGPRA), the University of Miami has completed an inventory of associated funerary objects and has determined that there is a cultural affiliation between the associated funerary objects and Indian Tribes or Native Hawaiian organizations in this notice.

DATES: Repatriation of associated funerary objects in this notice may occur on or after May 2, 2025.

ADDRESSES: Dr. Traci Ardren, Interim Department Chair, University of Miami, Anthropology Department, 5202 University Drive, Merrick Building Room 102, Coral Gables, FL 33146, telephone (305) 284-2535, email tardren@miami.edu.

SUPPLEMENTARY INFORMATION: This notice is published as part of the National Park Service's administrative responsibilities under NAGPRA. The determinations in this notice are the sole responsibility of the University of Miami, and additional information on the determinations in this notice, including the results of consultation, can be found in its inventory or related records. The National Park Service is not responsible for the determinations in this notice.

Abstract of Information Available

The 3,826 associated funerary objects include: Antler: 27 total (12 antler artifacts and 15 unmodified antler fragments); one bone bead; Faunal bone: 768 total lots of faunal bone (759 skeletal elements or fragments; nine artifacts [one chisel, one perforator, two pins, four points, one tool]); one turtle shell; one piece of charcoal; one crab claw; 10 clay samples; one coin; one composite tool (of bone and wood); four coprolites (most likely alligator); 313 core samples; 70 fossils (shell, wood, faunal, coral, flora); eight fossilized teeth (quadriped and Miocene sharks); one tree fungus; Lithics: 129 total lots of lithics (120 unspecified lithics; nine artifacts [six points, two bifaces, one atlatl counterweight]); one iron nail; two greenstone pendants; one leaf; 348 lots of rock; one lot of sand stratum; Sediment samples: 287 total lots of sediment samples (263 sediment samples; 19 sediment with rock samples; five wood and sediment samples); one lot of seeds; Shell: 619 lots of shell (611 unmodified land and marine shells; eight shell artifacts [one hammer, five tools, one pendant, one dipper]); one speleothem; Wood: 1,143 lots of wood (1,105 wood samples; 38 wood artifacts [one boomerang, one drill, one point, three tools, five stakes, 27 unspecified]), and 86 unknown items.

These artifacts and ecofacts were recovered from the submerged spring basin and adjacent wetland deposits at the Little Salt Spring Site in Sarasota County, Florida (sites 8SO18 and 8SO79, respectively); the site is listed on the National Register of Historic Places. Limited underwater archaeological test excavations occurred sporadically at the site from 1971-1980, under Carl Clausen, and continued from 1992-2011, under John Gifford. Preservation of organic materials is exceptional given the anoxic nature of the spring's water. The materials are currently housed at the Department of Anthropology at the University of Miami. Based on radiocarbon testing, materials recovered from LSS provide evidence of humans inhabiting the site during the Paleo-Indian period (between 12,000-8,500 years B.P.) and the Archaic period (between 8,500-5,200 years B.P.). During the Middle Archaic, the spring was used as a “mortuary pond.” There is no known presence of any potentially hazardous substances.

Cultural Affiliation

Based on the information available and the results of consultation, cultural affiliation is reasonably identified by the geographical location or acquisition history of the associated funerary objects described in this notice.

Determinations

The University of Miami has determined that:

• The 3,826 objects described in this notice are reasonably believed to have been placed intentionally with or near individual human remains at the time of death or later as part of the death rite or ceremony.

• There is a connection between the associated funerary objects described in this notice and the Miccosukee Tribe of Indians; Seminole Tribe of Florida; and The Seminole Nation of Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after May 2, 2025. If competing requests for repatriation are received, the University of Miami must determine the most appropriate requestor prior to repatriation. Requests for joint repatriation of the associated funerary objects are considered a single request and not competing requests. The University of Miami is responsible for sending a copy of this notice to the Indian Tribes and Native Hawaiian organizations identified in this notice.

Authority: Native American Graves Protection and Repatriation Act, 25 U.S.C. 3003, and the implementing regulations, 43 CFR 10.10.

Dated: March 21, 2025.
Melanie O'Brien,
Manager, National NAGPRA Program.

[FR Doc. 2025-05603 Filed 4-1-25; 8:45 am]

BILLING CODE 4312-52-P